POSTAL REGULATORY COMMISSION

[Docket Nos. MC2025-818 and K2025-818; MC2025-819 and K2025-819; MC2025-820 and K2025-820; MC2025-821 and K2025-821; MC2025-822 and K2025-822; MC2025-823 and K2025-823; MC2025-824 and K2025-824; MC2025-825 and K2025-826; MC2025-826 and K2025-827; MC2025-827 and K2025-828; MC2025-828 and K2025-829; MC2025-829 and K2025-830; MC2025-830 and K2025-831; MC2025-831 and K2025-832; MC2025-832 and K2025-833; MC2025-833 and K2025-834; MC2025-834 and K2025-835; MC2025-835 and K2025-836; MC2025-836 and K2025-837; MC2025-837 and K2025-838; MC2025-838 and K2025-839; MC2025-839 and K2025-840; MC2025-840 and K2025-841; MC2025-841 and K2025-842; MC2025-842 and K2025-843; MC2025-843 and K2025-844; MC2025-844 and K2025-845; MC2025-846 and K2025-847]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 23, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-818 and K2025-818; Filing Title: USPS Request to Add Priority Mail & USPS Ground Advantage Contract 534 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

2. Docket No(s).: MC2025-819 and K2025-819; Filing Title: USPS Request to Add Priority Mail Express, Priority Mail & USPS Ground Advantage Contract 1060 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

3. Docket No(s).: MC2025-820 and K2025-820; Filing Title: USPS Request to Add Priority Mail Express, Priority Mail & USPS Ground Advantage Contract 1061 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

4. Docket No(s).: MC2025-821 and K2025-821; Filing Title: USPS Request to Add Priority Mail Express, Priority Mail & USPS Ground Advantage Contract 1062 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

5. Docket No(s).: MC2025-822 and K2025-822; Filing Title: USPS Request to Add Priority Mail Express, Priority Mail & USPS Ground Advantage Contract 1063 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

6. Docket No(s).: MC2025-823 and K2025-823; Filing Title: USPS Request to Add Priority Mail Express, Priority Mail & USPS Ground Advantage Contract 1064 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

7. Docket No(s).: MC2025-824 and K2025-824; Filing Title: USPS Request to Add Priority Mail & USPS Ground Advantage Contract 535 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

8. Docket No(s).: MC2025-825 and K2025-826; Filing Title: USPS Request to Add Priority Mail Express, Priority Mail & USPS Ground Advantage Contract 1065 to the Competitive Product List and Notice of Filing Materials Under Seal; Filing Acceptance Date: December 13, 2024; Filing Authority: 39 U.S.C. 3642, 39 CFR 3035.105, and 39 CFR 3041.310; Public Representative: Jennaca Upperman; Comments Due: December 23, 2024.

9. Docket No(s).: MC2025-826 and K2025-827; Filing Title: USPS Request to Add Priority Mail Express, Priority Mail & USPS Ground Advantage Contract 1066 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

10. Docket No(s).: MC2025-827 and K2025-828; Filing Title: USPS Request to Add Priority Mail Express, Priority Mail & USPS Ground Advantage Contract 1067 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

11. Docket No(s).: MC2025-828 and K2025-829; Filing Title: USPS Request to Add Priority Mail Express, Priority Mail & USPS Ground Advantage Contract 1068 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

12. Docket No(s).: MC2025-829 and K2025-830; Filing Title: USPS Request to Add Priority Mail Express, Priority Mail & USPS Ground Advantage Contract 1069 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

13. Docket No(s).: MC2025-830 and K2025-831; Filing Title: USPS Request to Add Priority Mail Express, Priority Mail & USPS Ground Advantage Contract 1070 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

14. Docket No(s).: MC2025-831 and K2025-832; Filing Title: USPS Request to Add Priority Mail Express, Priority Mail & USPS Ground Advantage Contract 1071 to the Competitive Product List and Notice of Filing Materials Under Seal; Filing Acceptance Date: December 13, 2024; Filing Authority: 39 U.S.C. 3642, 39 CFR 3035.105, and 39 CFR 3041.310; Public Representative: Elsie Lee-Robbins; Comments Due: December 23, 2024.

15. Docket No(s).: MC2025-832 and K2025-833; Filing Title: USPS Request to Add Priority Mail Express, Priority Mail & USPS Ground Advantage Contract 1072 to the Competitive Product List and Notice of Filing Materials Under Seal; Filing Acceptance Date: December 13, 2024; Filing Authority: 39 U.S.C. 3642, 39 CFR 3035.105, and 39 CFR 3041.310; Public Representative: Christopher Mohr; Comments Due: December 23, 2024.

16. Docket No(s).: MC2025-833 and K2025-834; Filing Title: USPS Request to Add Priority Mail & USPS Ground Advantage Contract 536 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

17. Docket No(s).: MC2025-834 and K2025-835; Filing Title: USPS Request to Add Priority Mail & USPS Ground Advantage Contract 537 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

18. Docket No(s).: MC2025-835 and K2025-836; Filing Title: USPS Request to Add Priority Mail & USPS Ground Advantage Contract 538 to the Competitive Product List and Notice of Filing Materials Under Seal; Filing Acceptance Date: December 13, 2024; Filing Authority: 39 U.S.C. 3642, 39 CFR 3035.105, and 39 CFR 3041.310; Public Representative: Samuel Robinson; Comments Due: December 23, 2024.

19. Docket No(s).: MC2025-836 and K2025-837; Filing Title: USPS Request to Add Priority Mail Express, Priority Mail & USPS Ground Advantage Contract 1073 to the Competitive Product List and Notice of Filing Materials Under Seal; Filing Acceptance Date: December 13, 2024; Filing Authority: 39 U.S.C. 3642, 39 CFR 3035.105, and 39 CFR 3041.310; Public Representative: Christopher Mohr; Comments Due: December 23, 2024.

20. Docket No(s).: MC2025-837 and K2025-838; Filing Title: USPS Request to Add Priority Mail Express, Priority Mail & USPS Ground Advantage Contract 1074 to the Competitive Product List and Notice of Filing Materials Under Seal; Filing Acceptance Date: December 13, 2024; Filing Authority: 39 U.S.C. 3642, 39 CFR 3035.105, and 39 CFR 3041.310; Public Representative: Christopher Mohr; Comments Due: December 23, 2024.

21. Docket No(s).: MC2025-838 and K2025-839; Filing Title: USPS Request to Add Priority Mail Express, Priority Mail & USPS Ground Advantage Contract 1075 to the Competitive Product List and Notice of Filing Materials Under Seal; Filing Acceptance Date: December 13, 2024; Filing Authority: 39 U.S.C. 3642, 39 CFR 3035.105, and 39 CFR 3041.310; Public Representative: Christopher Mohr; Comments Due: December 23, 2024.

22. Docket No(s).: MC2025-839 and K2025-840; Filing Title: USPS Request to Add Priority Mail Express, Priority Mail & USPS Ground Advantage Contract 1076 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

23. Docket No(s).: MC2025-840 and K2025-841; Filing Title: USPS Request to Add Priority Mail & USPS Ground Advantage Contract 539 to the Competitive Product List and Notice of Filing Materials Under Seal; Filing Acceptance Date: December 13, 2024; Filing Authority: 39 U.S.C. 3642, 39 CFR 3035.105, and 39 CFR 3041.310; Public Representative: Samuel Robinson; Comments Due: December 23, 2024.

24. Docket No(s).: MC2025-841 and K2025-842; Filing Title: USPS Request to Add Priority Mail Express, Priority Mail & USPS Ground Advantage Contract 1077 to the Competitive Product List and Notice of Filing Materials Under Seal; Filing Acceptance Date: December 13, 2024; Filing Authority: 39 U.S.C. 3642, 39 CFR 3035.105, and 39 CFR 3041.310; Public Representative: Christopher Mohr; Comments Due: December 23, 2024.

25. Docket No(s).: MC2025-842 and K2025-843; Filing Title: USPS Request to Add Priority Mail Express, Priority Mail & USPS Ground Advantage Contract 1078 to the Competitive Product List and Notice of Filing Materials Under Seal; Filing Acceptance Date: December 13, 2024; Filing Authority: 39 U.S.C. 3642, 39 CFR 3035.105, and 39 CFR 3041.310; Public Representative: Almaroof Agoro; Comments Due: December 23, 2024.

26. Docket No(s).: MC2025-843 and K2025-844; Filing Title: USPS Request to Add Priority Mail & USPS Ground Advantage Contract 540 to the Competitive Product List and Notice of Filing Materials Under Seal; Filing Acceptance Date: December 13, 2024; Filing Authority: 39 U.S.C. 3642, 39 CFR 3035.105, and 39 CFR 3041.310; Public Representative: Samuel Robinson; Comments Due: December 23, 2024.

27. Docket No(s).: MC2025-844 and K2025-845; Filing Title: USPS Request to Add Priority Mail & USPS Ground Advantage Contract 541 to the Competitive Product List and Notice of Filing Materials Under Seal; Filing Acceptance Date: December 13, 2024; Filing Authority: 39 U.S.C. 3642, 39 CFR 3035.105, and 39 CFR 3041.310; Public Representative: Maxine Bradley; Comments Due: December 23, 2024.

28. Docket No(s).: MC2025-846 and K2025-847; Filing Title: USPS Request to Add Priority Mail & USPS Ground Advantage Contract 542 to the Competitive Product List and Notice of Filing Materials Under Seal; Filing Acceptance Date: December 13, 2024; Filing Authority: 39 U.S.C. 3642, 39 CFR 3035.105, and 39 CFR 3041.310; Public Representative: Maxine Bradley; Comments Due: December 23, 2024.

III. Summary Proceeding(s)

None. See Section II for public proceedings.

This Notice will be published in the Federal Register.

Erica A. Barker,
Secretary.

[FR Doc. 2024-30345 Filed 12-19-24; 8:45 am]

BILLING CODE 7710-FW-P